DEPARTMENT OF ENERGY

Federal Energy Regulatory Commission

[Docket No. PR01-5-000]

Magic Valley Pipeline, L.P., Notice of Rate Election

March 6, 2001.

Take notice that on January 23, 2001, Magic Valley Pipeline, L.P. (Magic Valley) filed, pursuant to section 284.123(b)(1)(ii) of the Commission's regulations, an election to use rates set forth in its effective state transportation rate schedule for comparable services under subpart C of part 284 of the Commission's regulations. This rate will be applicable to the firm transportation of natural gas under section 311(a)(2) of the Natural Gas Policy Act of 1978.

Magic Valley has also submitted its Statement of Operating Conditions in compliance with section 284.123(e) of the Commission's regulations.

Pursuant to section 284.123(b)(2)(ii), if the Commission does not act within 150 days of the filing date of Magic Valley's Petition, Magic Valley's rates for firm and interruptible storage services will be deemed to be fair and equitable. The Commission may within such 150 days period extend the time for action or institute a proceeding in which all interested parties will be afforded an opportunity for written comments and the oral presentation of views, data and arguments.

Any person desiring to participate in this rate proceeding must file a motion to intervene or protest with the Federal Energy Regulatory Commission, 888 First Street, NE., Washington, DC 20426, in accordance with rules 211 and 214 of the Commission's Rules of Practice and Procedure (18 CFR 385.211 and 385.214). All motions must be filed with the Secretary of the Commission on or before March 21, 2001. This petition for rate approval is on file with the Commission and is available for public inspection. This filing may be viewed on the web at http://www.ferc.fed.us/online/rims.htm (call 202-208-2222 for assistance). Comments and protests may be filed electronically via the internet in lieu of paper. See, 18 CFR 385.200(a)(1)(iii) and the instruction on the Commission's web site at http://www.ferc.fed.us.efi/doorbell.htm.

David P. Boergers,
Secretary.

[FR Doc. 01-5986 Filed 3-9-01; 8:45 am]

BILLING CODE 6717-01-M